DEPARTMENT OF THE INTERIOR

National Park Service

National Register of Historic Places; Notification of Pending Nominations and Related Actions

Nominations for the following properties being considered for listing or related actions in the National Register were received by the National Park Service before June 23, 2007.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by July 26, 2007.

J. Paul Loether,
Chief, National Register of Historic Places/National Historic Landmarks Program.

COLORADO

Boulder County

Gold Miner Hotel (Boundary Increase), 601 Klondyke Ave., Eldora, 07000772

Jamestown Town Hall (Boundary Increase), (Metal Mining and Tourist Era Resources of Boulder County MPS), 118 Main St., Jamestown, 07000773

CONNECTICUT

Hartford County

Glastonbury Knitting Company, 64 Addison Rd., Glastonbury, 07000770

IOWA

Marion County

Knoxville WPA Athletic Field Historic District, Bounded by Linocln St., Robinson St., Stadium St. and Marion St., Knoxville, 07000775

NEW YORK

Dutchess County

Martin, Hendrick, House, 65 Willowbrook Ln., Red Hook, 07000776

Richmond County

Temple Emanu-El, 984 Post Ave., Staten Island, 07000778

Westchester County

Plashbourne Estate, 51 Carlton Rd., Yonkers, 07000777

OREGON

Benton County

Whiteside, Charles and Ibby, House, 344 SW 7th St., Corvallis, 07000774

Multnomah County

Yeon, John, Speculative House, 3922 N. Lombard St., Portland, 07000771

WEST VIRGINIA

Boone County

Madison National Bank, 375 Main St., Madison, 07000779

Cabell County

Hawthorne Historic District, Roughly Hawthorne Way and portions of South, Whitaker Blvd., Huntington, 07000786

Kenwood, 619 Ridgewood Rd., Huntington, 07000784

Fayette County

Boyd Avenue Historic District, Boyd Ave., E and W sides, N of Queen St., Martinsburg, 07000781

Mount Hope Historic District, Portions of Maine, Tennessee, Montana, Virginia Sts., Fayette, Mountain Aves, Stadium Dr., N. Pax Ave., N. Maryland, Mount Hope, 07000785

Jefferson County

Duffields Depot, 45 Melvin Rd., Shenandoah Junction, 07000780

Kanawha County

McClung's Price Place, 699 Savannah Ln., Lewisburg, 07000782

Putnam County

Hoge, James W., House, Hoge Ln., Winfield, 07000783

WISCONSIN

Kenosha County

Kenosha North Pierhead Light, (Light Stations of the United States MPS), North pier at Kenosha harbor entry, 0.1 mi. E of Simmons Island Park, Kenosha, 07000787

A request for a MOVE has been made for the following resource: Pedrick Store House part of the

MASSACHUSETTS

Essex County

Marblehead Historic District, Roughly bounded by Marblehead Harbor, Waldron Court, Essex, Elm, Pond, and Norman Sts., Marblehead, 84002402

[FR Doc. E7-13388 Filed 7-10-07; 8:45 am]

BILLING CODE 4312-51-P